DEPARTMENT OF THE INTERIOR

Bureau of Land Management

[UT-050-1430-ET; UTU 50514]

Public Land Order No. 7590; Extension of Public Land Order No. 6543; Utah

AGENCY: Bureau of Land Management, Interior.

ACTION: Public Land Order.

SUMMARY: This order extends Public Land Order No. 6543 for an additional 20-year period. This extension is necessary to continue protection of the Henry Mountain Administrative Site.

EFFECTIVE DATE: June 7, 2004.

FOR FURTHER INFORMATION CONTACT: Rhonda Flynn, BLM Utah State Office, P.O. Box 45155, Salt Lake City, Utah, 84145-0155, 801-539-4132.

Order

By virtue of the authority vested in the Secretary of the Interior by Section 204 of the Federal Land Policy and Management Act of 1976, 43 U.S.C. 1714 (2000), it is ordered as follows:

1. Public Land Order No. 6543 (49 FR 23626, June 7, 1984), which withdrew 41.21 acres of public land from surface entry and mining to protect the Henry Mountain Administrative Site, is hereby extended for an additional 20-year period.

2. Public Land Order No. 6543 will expire June 6, 2024, unless, as a result of a review conducted prior to the expiration date pursuant to Section 204(f) of the Federal Land Policy and Management Act of 1976, 43 U.S.C. 1714(f) (2000), the Secretary determines that the withdrawal shall be extended.

Dated: October 20, 2003.
Rebecca W. Watson,
Assistant Secretary—Land and Minerals Management.

[FR Doc. 03-27633 Filed 11-3-03; 8:45 am]

BILLING CODE 4310-$$-P